FEDERAL COMMUNICATIONS COMMISSION

47 CFR Part 73

[DA 00-1797, MM Docket No. 00-138, RM-9896]

Digital Television Broadcast Service; Boca Raton, FL

AGENCY: Federal Communications Commission.

ACTION: Proposed rule.

SUMMARY: The Commission requests comments on a petition jointly filed by Palmetto Broadcasters Associated for Communities, Inc., licensee of noncommercial educational station WPPB-TV, NTSC Channel 63, Boca Raton, Florida, and Channel 63 of Palm Beach, Inc., the proposed assignee of WPPB. Petitioners request the substitution of DTV Channel *40 for DTV Channel *44 at Boca Raton. DTV Channel *40 can be allotted to Boca Raton, Florida, in compliance with the principal community coverage requirements of Section 73.625(a) at reference coordinates (25-59-34 N. and 80-10-27 W.). As requested, we propose to allot DTV Channel *40 to Boca Raton with a power of 1000 and a height above average terrain (HAAT) of 310 meters.

DATES: Comments must be filed on or before October 10, 2000, and reply comments on or before October 25, 2000.

ADDRESSES: Federal Communications Commission, 445 12th Street, S.W., Room TW-A325, Washington, DC 20554. In addition to filing comments with the FCC, interested parties should serve the petitioner, or its counsel or consultant, as follows: Kevin C. Boyle, Nandan M. Joshi, Latham & Watkins, 1001 Pennsylvania Avenue, NW., Suite 1300, Washington, DC 20004 (Counsel for Palmetto Broadcasters Associated for Communities, Inc.); and John R. Feore, Jr., Margaret L. Miller, Christine J. Newcomb, Dow, Lohnes & Albertson, PLLC, 1200 New Hampshire Avenue, Suite 800, Washington, DC 20036 (Counsel for Channel 63 of Palm Beach, Inc.).

FOR FURTHER INFORMATION CONTACT: Pam Blumenthal, Mass Media Bureau, (202) 418-1600.

SUPPLEMENTARY INFORMATION: This is a synopsis of the Commission's Notice of Proposed Rule Making, MM Docket No. 00-138, adopted August 17, 2000, and released August 25, 2000. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-21405 Filed 8-21-00; 8:45 am]

BILLING CODE 6712-01-P